DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: July 21, 2016 10:00 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1029th—Meeting, Regular Meeting
[July 21, 2016, 10:00 a.m.]
Item No | Docket No. | Company
ADMINISTRATIVE
A-1 | AD16-1-000 | Agency Administrative Matters.
A-2 | AD16-7-000 | Customer Matters, Reliability, Security and Market Operations.
A-3 | AD16-22-000 | Briefing on Revised Memorandum of Understanding Between FERC and the U.S. Army Corps for Non-Federal Hydropower Development at the Corps' Facilities.
ELECTRIC
E-1 | ER12-959-007 | Southwest Power Pool, Inc.
E-2 | ER16-791-000 | Southwest Power Pool, Inc.
E-3 | EL16-91-000 | Southwest Power Pool, Inc.
E-4 | EL14-12-001 | Association of Businesses Advocating Tariff Equity, Coalition of MISO Transmission Customers, Illinois Industrial Energy Consumers, Indiana Industrial Energy Consumers, Inc., Minnesota Large Industrial Group, Wisconsin Industrial Energy Group v., Midcontinent Independent System Operator, Inc., ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northern Indiana Public Service Company, Northern States Power Company-Minnesota, Northern States Power Company-Wisconsin, Otter Tail Power Company, Southern Indiana Gas & Electric Company.
E-5 | EL15-45-001, | Arkansas Electric Cooperative Corporation, Mississippi Delta Energy Agency, Clarksdale Public Utilities Commission, Public Service Commission of Yazoo City, Hoosier Energy Rural Electric Cooperative, Inc. v., ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northern Indiana Public Service Company, Northern States Power Company-Minnesota, Northern States Power Company-Wisconsin, Otter Tail Power Company, Southern Indiana Gas & Electric Company.
| EL16-99-000 | Midcontinent Independent System Operator, Inc.
E-6 | Omitted.
E-7 | RM16-17-000 | Data Collection for Analytics and Surveillance and Market-Based Rate Purposes.
E-8 | RM15-14-002 | Revised Critical Infrastructure Protection Reliability Standards.
E-9 | RM15-14-001 | Revised Critical Infrastructure Protection Reliability Standards.
E-10 | RM16-18-000 | Cyber Systems in Control Centers.
E-11 | RM16-8-000 | Requirements for Frequency and Voltage Ride Through Capability of Small Generating Facilities.
E-12 | RM05-5-025 | Standards for Business Practices and Communication Protocols for Public Utilities.
E-13 | RM15-23-000 | Collection of Connected Entity Data from Regional Transmission Organizations and Independent System Operators.
E-14 | RM16-3-000 | Ownership Information in Market-Based Rate Filings.
E-15 | ER16-1774-000 | Southwest Power Pool, Inc.
E-16 | ER16-13-002 | Southwest Power Pool, Inc.
E-17 | ER12-678-006 | Midwest Independent Transmission System Operator, Inc.
E-18 | ER12-678-004 EL14-58-001 | Midwest Independent Transmission System Operator, Inc.
E-19 | Omitted.
E-20 | EL16-69-000, QF16-362-001, QF16-363-001, QF16-364-001, QF16-365-001, QF16-366-001, QF16-367-001, QF16-368-001, QF16-369-001, QF16-370-001, QF16-371-001, QF16-372-001, QF16-373-001, QF16-374-001, QF16-375-001, QF16-376-001, QF16-377-001, QF16-378-001, QF16-379-001, QF16-380-001, QF16-381-001, QF16-382-001, QF16-383-001, QF16-384-001, QF16-385-001, QF16-386-001, QF16-387-001 | Windham Solar LLC and Allco Finance Limited.
E-21 | Omitted.
E-22 | Omitted.
E-23 | QM16-1-000 | Nebraska Public Power District.
HYDRO
H-1 | P-13458-003 | BOST1 Hydroelectric LLC.
CERTIFICATES
C-1 | CP15-498-000 | Eastern Shore Natural Gas Company.
C-2 | CP15-18-000 CP15-18-001 | Eastern Shore Natural Gas Company.

Dated: July 14, 2016.
Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-17121 Filed 7-15-16; 4:15 pm]

BILLING CODE 6717-01-P